DEPARTMENT OF THE INTERIOR

National Park Service

[NPS-WASO-NAGPRA-NPS0039774; PPWOCRADN0-PCU00RP14.R50000]

Notice of Inventory Completion: U.S. Army Corps of Engineers, Mobile District, Mobile, AL

AGENCY: National Park Service, Interior.

ACTION: Notice.

SUMMARY: In accordance with the Native American Graves Protection and Repatriation Act (NAGPRA), the U.S. Army Corps of Engineers, Mobile District, has completed an inventory of human remains and associated funerary objects and has determined that there is a cultural affiliation between the human remains and associated funerary objects and Indian Tribes or Native Hawaiian organizations in this notice.

DATES: Repatriation of the human remains and associated funerary objects in this notice may occur on or after April 28, 2025.

ADDRESSES: Ms. Emily Demontalvo, 109 St. Joseph Street, P.O. Box 2288, Mobile, AL 36628-0001, telephone (251) 690-3227, email Emily.J.Warner@usace.army.mil.

SUPPLEMENTARY INFORMATION: This notice is published as part of the National Park Service's administrative responsibilities under NAGPRA. The determinations in this notice are the sole responsibility of the U.S. Army Corps of Engineers, Mobile District, and additional information on the determinations in this notice, including the results of consultation, can be found in its inventory or related records. The National Park Service is not responsible for the determinations in this notice.

Abstract of Information Available

Human remains representing, at least, five individuals have been identified. The 20 associated funerary objects are three pieces of mica, two pieces of quartz, one stone axe, two ear spools, three shell beads, one unmodified rock, one piece of carved wood, one charcoal, one lot of flakes, one piece of fabric, three matrix samples, and one projectile point. The Park Mound Site (9TP41) is a multicomponent site with Early Archaic and Late Mississippian occupations. The mound was surveyed by Harold Huscher in 1967 and again in 1968 as part of the Smithsonian Institution's River Basin Survey program. Huscher conducted excavations at Park Mound in 1969 and again in 1972 and 1973. The human remains and associated funerary objects have been at the University of Georgia since their excavation.

Human remains representing, at least, 36 individuals have been identified. The 178 associated funerary objects are 37 lots of faunal remains, 14 fire cracked rock, 72 lots of potsherds, five charcoal, eight lots of shell beads, one possible coprolite, three sandstone, 16 lots of soil matrix, two bone needles, two lots of shell, six unmodified rocks, one flake, two ceramic bowls, one partially reconstructed bowl, two ear spools, one ceramic vessel, two bone tools, one fossil, one piece of copper, and one soil sample. Avery Mound (9TP64) is an Early to Late Mississippian mound site. Harold Huscher conducted preliminary investigations at Avery Mound in 1966 as part of the Smithsonian's River Basin Survey program and returned in 1967 and excavated a number of test units which identified a number of postholes and probable burial pits. The human remains and associated funerary objects have been at the University of Georgia since their excavation.

Cultural Affiliation

Based on the information available and the results of consultation, cultural affiliation is clearly identified by the information available about the human remains and associated funerary objects described in this notice.

Determinations

The U.S. Army Corps of Engineers, Mobile District, has determined that:

• The human remains described in this notice represent the physical remains of 41 individuals of Native American ancestry.

• The 198 objects described in this notice are reasonably believed to have been placed intentionally with or near individual human remains at the time of death or later as part of the death rite or ceremony.

• There is a connection between the human remains and associated funerary objects described in this notice and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 28, 2025. If competing requests for repatriation are received, the U.S. Army Corps of Engineers, Mobile District, must determine the most appropriate requestor prior to repatriation. Requests for joint repatriation of the human remains and associated funerary objects are considered a single request and not competing requests. The U.S. Army Corps of Engineers, Mobile District, is responsible for sending a copy of this notice to the Indian Tribes and Native Hawaiian organizations identified in this notice.

Authority: Native American Graves Protection and Repatriation Act, 25 U.S.C. 3003, and the implementing regulations, 43 CFR 10.10.

Dated: March 17, 2025.
Melanie O'Brien,
Manager, National NAGPRA Program.

[FR Doc. 2025-05227 Filed 3-26-25; 8:45 am]

BILLING CODE 4312-52-P